ENVIRONMENTAL PROTECTION AGENCY

40 CFR Part 52

[EPA-R06-OAR-2011-0938; FRL-9922-72-Region 6]

Approval and Promulgation of Implementation Plans; New Mexico; Transportation Conformity and Conformity of General Federal Actions

AGENCY: Environmental Protection Agency (EPA).

ACTION: Proposed rule.

SUMMARY: The Environmental Protection Agency (EPA) is proposing to approve State Implementation Plan (SIP) revisions submitted by the State of New Mexico on October 28, 2011, November 1, 2013, and August 8, 2014 on behalf of the New Mexico Environment Department (NMED). These revisions amend the State transportation conformity provisions and remove the State general conformity provisions from the SIP as allowed by the 2005 amendments to the Clean Air Act (Act or CAA). These revisions also establish transportation conformity criteria and procedures related to interagency consultation and enforceability of certain transportation-related control measures and mitigation measures. If finalized, upon the effective date of this final action, the EPA federal rules will govern conformity of transportation Federal actions and general Federal actions within the State of New Mexico. This action is being taken in accordance with sections 110 and 176 of the Act.

DATES: Written comments should be received on or before March 12, 2015.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Jeffrey Riley, (214) 665-8542, riley.jeffrey@epa.gov.

SUPPLEMENTARY INFORMATION: In the final rules section of this Federal Register, EPA is approving the State's SIP submittal as a direct rule without prior proposal because the Agency views this as noncontroversial submittal and anticipates no adverse comments. A detailed rationale for the approval is set forth in the direct final rule. If no relevant adverse comments are received in response to this action no further activity is contemplated. If EPA receives relevant adverse comments, the direct final rule will be withdrawn and all public comments received will be addressed in a subsequent final rule based on this proposed rule. EPA will not institute a second comment period. Any parties interested in commenting on this action should do so at this time.

For additional information, see the direct final rule which is located in the rules section of this Federal Register.

Dated: January 28, 2015.
Samuel Coleman,
Acting Regional Administrator, Region 6.

[FR Doc. 2015-02584 Filed 2-9-15; 8:45 am]

BILLING CODE 6560-50-P